OFFICE OF PERSONNEL MANAGEMENT

Excepted Service

AGENCY: Office of Personnel Management (OPM).

ACTION: Notice.

SUMMARY: This notice identifies Schedule A, B, and C appointing authorities applicable to a single agency that was established, modified, or revoked from September 1, 2023, to September 30, 2023.

FOR FURTHER INFORMATION CONTACT: Julia Alford, Agency Operations and Services, Executive Services and Workforce Development, Workforce Policy and Innovation, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that was established, modified, or revoked from September 1, 2023, to September 30, 2023.

Schedule A

No Schedule A Authorities to report during September 2023.

Schedule B

No Schedule B Authorities to report during September 2023.

Schedule C

The following Schedule C appointing authorities were approved during September 2023.

Agency name | Organization name | Position title | Authorization No. | Effective date
DEPARTMENT OF AGRICULTURE | Office of the Secretary | Deputy White House Liaison | DA230155 | 09/08/2023
| Office of Communications | Chief of Staff | DA230159 | 09/22/2023
| Office of the Under Secretary for Marketing and Regulatory Programs | Confidential Assistant | DA230158 | 09/28/2023
| Foreign Agricultural Service | Senior Advisor | DA230160 | 09/28/2023
DEPARTMENT OF COMMERCE | Economic Development Administration | Special Assistant | DC230195 | 09/21/2023
| Office of Advance, Scheduling and Protocol | Associate Director of Scheduling | DC230187 | 09/08/2023
| Office of the Chief Financial Officer and Assistant Secretary for Administration | Deputy Chief of Staff | DC230183 | 09/08/2023
| Office of the Chief of Staff | Deputy Director of Advance and Protocol | DC230196 | 09/21/2023
| Office of the General Counsel | Counsel | DC230188 | 09/08/2023
DEPARTMENT OF DEFENSE | Office of the Assistant Secretary of Defense (Homeland Defense and Hemispheric Affairs) | Senior Advisor | DD230208 | 09/29/2023
| Office of the Assistant to the Secretary of Defense (Public Affairs) | Special Assistant | DD230202 | 09/20/2023
| Office of the Under Secretary of Defense (Intelligence and Security) | Special Assistant | DD230203 | 09/20/2023
DEPARTMENT OF THE ARMY | Office of the Secretary | Deputy to the Chief of Staff to the Secretary of the Army | DW230035 | 09/13/2023
| Office Assistant Secretary Army (Manpower and Reserve Affairs) | Special Assistant | DW230034 | 09/18/2023
DEPARTMENT OF EDUCATION | Office for Civil Rights | Deputy Assistant Secretary | DB230109 | 09/07/2023
| Office of the General Counsel | Chief of Staff Senior Counsel Confidential Assistant | DB230106 DB230107 DB230112 | 09/07/2023 09/07/2023 09/21/2023
| Office of the Secretary | Confidential Assistant | DB230108 | 09/07/2023
DEPARTMENT OF ENERGY | Office of Clean Energy Demonstrations | Chief of Staff | DE230164 | 09/26/2023
| Loan Programs Office | Chief of Staff | DE230166 | 09/26/2023
| Office of Management | Special Assistant for Advance | DE230167 | 09/26/2023
ENVIRONMENTAL PROTECTION AGENCY | Office of the Assistant Administrator for Air and Radiation | Special Assistant | EP230125 | 09/12/2023
| Office of Public Engagement and Environmental Education | Special Assistant | EP230127 | 09/20/2023
| Office of the Administrator | Special Assistant for Agriculture | EP230128 | 09/27/2023
EQUAL EMPLOYMENT OPPORTUNITY COMMISSION | Office of Commissioner | Policy Analyst | EE230011 | 09/15/2023
FEDERAL MARITIME COMMISSION | Office of the Members | Confidential Assistant | MC230004 | 09/12/2023
DEPARTMENT OF HEALTH AND HUMAN SERVICES | Centers for Medicare and Medicaid Services | Senior Communications Outreach Liaison | DH230273 | 09/22/2023
|  | Policy Advisor | DH230261 | 09/07/2023
| Office of the Assistant Secretary for Health | Chief of Staff, Office of the Surgeon General | DH230256 | 09/19/2023
| Office of the Assistant Secretary for Public Affairs | Senior Advisor—Public Health Communications | DH230262 | 09/18/2023
| Office of the Secretary | Director of Scheduling and Advance | DH230252 | 09/07/2023
DEPARTMENT OF HOMELAND SECURITY | United States Citizenship and Immigration Services | Policy and Regulatory Advisor to the Director (2) | DM230300 DM230357 | 09/19/2023 09/22/2023
DEPARTMENT OF HOUSING AND URBAN DEVELOPMENT | Office of Policy Development and Research | Senior Advisor for Innovation | DU230082 | 09/14/2023
| Office of the Administration | Senior Advisor | DU230079 | 09/21/2023
DEPARTMENT OF JUSTICE | Office of Civil Rights Division | Chief of Staff and Senior Counsel | DJ230135 | 09/07/2023
| Office of Public Affairs | Speechwriter | DJ230140 | 09/07/2023
| Office of the Associate Attorney General | Confidential Assistant | DJ230146 | 09/07/2023
| Office of Public Affairs | Senior Communications Advisor | DJ230148 | 09/25/2023
DEPARTMENT OF LABOR | Occupational Safety and Health Administration | Chief of Staff | DL230089 | 09/06/2023
| Office of Congressional and Intergovernmental Affairs | Secretary's Representative on Retirement and Pension Issues | DL230090 | 09/21/2023
OFFICE OF PERSONNEL MANAGEMENT | Office of the Director | Special Assistant for Policy Implementation | PM230057 | 09/15/2023
UNITED STATES INTERNATIONAL DEVELOPMENT FINANCE CORPORATION | Overseas Private Investment Corporation | Advisor-Speechwriter | PQ230010 | 09/08/2023
|  | Climate Advisor | PQ230009 | 09/08/2023
|  | Senior Advisor | PQ230011 | 09/21/2023
|  | Special Assistant | PQ230014 | 09/22/2023
SMALL BUSINESS ADMINISTRATION | Office of Communications and Public Liaison | Deputy Press Secretary (2) | SB230043 SB230046 | 09/18/2023 09/27/2023
DEPARTMENT OF STATE | Bureau of East Asian and Pacific Affairs | Senior Advisor | DS230180 | 09/26/2023
| Bureau of Educational and Cultural Affairs | Program Officer | DS230182 | 09/25/2023
| Office of the Chief of Protocol | Senior Advisor Deputy Chief of Protocol Senior Protocol Officer (Visits) | DS230173 DS230177 DS230176 | 09/01/2023 09/18/2023 09/22/2023
| Office of the Deputy Secretary for Management and Resources | Senior Advisor | DS230179 | 09/20/2023
DEPARTMENT OF TRANSPORTATION | Office of the Assistant Secretary for Research and Technology | Director of Strategic Initiatives | DT230132 | 09/01/2023
| Office of Pipeline and Hazardous Materials Safety Administration | Senior Advisor | DT230133 | 09/01/2023
| Office of Civil Rights | Advisor for Policy and Program Implementation | DT230134 | 09/01/2023
| Office of the Secretary | Director of Scheduling | DT230140 | 09/21/2023
| Office of the Under Secretary of Transportation for Policy | Deputy Director of Bipartisan Infrastructure Law Implementation | DT230141 | 09/21/2023
DEPARTMENT OF THE TREASURY | Department of the Treasury | Deputy Executive Secretary Director of Policy and Program Impact Senior Advisor Special Advisor | DY230149 DY230156 DY230152 DY230150 | 09/06/2023 09/22/2023 09/06/2023 09/01/2023
| Secretary of the Treasury | Special Assistant | DY230154 | 09/22/2023
DEPARTMENT OF VETERANS AFFAIRS | Office of the Assistant Secretary for Public and Intergovernmental Affairs | Special Advisor for Oversight | DV230087 | 09/26/2023

The following Schedule C appointing authorities were revoked during September 2023.

Agency name | Organization name | Position title | Request No. | Vacate date
CONSUMER FINANCIAL PROTECTION BUREAU | Office of the Director | Senior Advisor (Policy and Strategic Planning) | FP220006 | 09/09/2023
DEPARTMENT OF AGRICULTURE | Natural Resources Conservation Service | Special Advisor | DA230067 | 09/23/2023
| Office of Communications | Press Secretary | DA220109 | 09/28/2023
| Office of the Secretary | Deputy White House Liaison | DA230118 | 09/09/2023
| Office of the Under Secretary for Food Safety | Confidential Assistant | DA210125 | 09/23/2023
| Office of Rural Development | State Director—Idaho | DA220054 | 09/23/2023
DEPARTMENT OF COMMERCE | Bureau of Industry and Security | Special Assistant | DC230113 | 09/23/2023
| International Trade Administration | Senior Advisor | DC220158 | 09/29/2023
| National Telecommunications and Information Administration | Senior Advisor | DC220098 | 09/23/2023
| Office of Executive Secretariat | Special Assistant | DC230075 | 09/23/2023
| Office of the Chief of Staff | Special Assistant to the Deputy Chief of Staff (2) | DC220159 DC230105 | 09/09/2023 09/09/2023
| Office of the Under Secretary for Economic Affairs | Special Advisor to the Under Secretary | DC220171 | 09/29/2023
DEPARTMENT OF EDUCATION | Office of Communications and Outreach | Press Secretary, Oversight | DB230013 | 09/15/2023
| Office of the Secretary | Deputy White House Liaison | DB220066 | 09/23/2023
DEPARTMENT OF ENERGY | Office of the Assistant Secretary for Congressional and Intergovernmental Affairs | Deputy Assistant Secretary for Senate Affairs | DE220013 | 09/09/2023
|  | Legislative Affairs Advisor (Senate) | DE220083 | 09/09/2023
| Office of the Assistant Secretary for International Affairs | Special Assistant | DE220073 | 09/09/2023
| Office of Clean Energy Demonstrations | Chief of Staff | DE220113 | 09/09/2023
DEPARTMENT OF HEALTH AND HUMAN SERVICES | Administration for Children and Families | Senior Advisor | DH220010 | 09/23/2023
DEPARTMENT OF HEALTH AND HUMAN SERVICES | Office of Intergovernmental and External Affairs | Deputy Director, White House Initiative on Asian Americans, Native Hawaiians, and Pacific Islanders | DH220026 | 09/30/2023
| Office of the Assistant Secretary for Legislation | Chief of Staff | DH220050 | 09/23/2023
| Office of the Assistant Secretary for Public Affairs | National Press Secretary | DH220134 | 09/23/2023
| Office of the Secretary | Policy Advisor | DH230039 | 09/09/2023
| Substance Abuse and Mental Health Services Administration | Senior Advisor | DH210143 | 09/09/2023
DEPARTMENT OF HOMELAND SECURITY | Office of the Secretary | Briefing Book Coordinator (Deputy Secretary) | DM220242 | 09/24/2023
|  | White House Liaison | DM220248 | 09/10/2023
|  | Special Assistant to the Chief of Staff | DM220255 | 09/24/2023
| United States Customs and Border Protection | Special Assistant | DM210455 | 09/24/2023
DEPARTMENT OF HOUSING AND URBAN DEVELOPMENT | Office of Public Affairs | Deputy Assistant Secretary, Public Engagement | DU230039 | 09/30/2023
DEPARTMENT OF LABOR | Occupational Safety and Health Administration | Senior Policy Advisor | DL220001 | 09/09/2023
| Office of Public Affairs | Deputy Speechwriter | DL220002 | 09/25/2023
| Office of the Secretary | Travelling Special Assistant | DL220010 | 09/23/2023
|  | Director of Advance | DL230006 | 09/23/2023
DEPARTMENT OF STATE | Bureau of Conflict and Stabilization Operations | Senior Advisor | DS220067 | 09/23/2023
| United States Customs and Border Protection | Supervisory Foreign Affairs Officer | DS220053 | 09/23/2023
| Bureau of Legislative Affairs | Legislative Management Officer (Senate) | DS230121 | 09/10/2023
DEPARTMENT OF THE TREASURY | Department of the Treasury | Special Assistant | DY230060 | 09/16/2023
| Secretary of the Treasury | Deputy Director for Scheduling and Advance | DY230050 | 09/15/2023
DEPARTMENT OF TRANSPORTATION | Office of the Assistant Secretary for Research and Technology | Senior Advisor for Research and Technology | DT210087 | 09/09/2023
| Office of the Executive Secretariat | Engagement Program Manager | DT220003 | 09/09/2023
| Office of Field Services | Senior Advisor Field Services Testing | DT230138 | 09/11/2023
| Office of Public Affairs and Public Engagement | Program Manager for Public Program Manager for Public Engagement | DT230120 | 09/15/2023
| Office of the General Counsel | Associate General Counsel | DT230084 | 09/01/2023
| Office of the Under Secretary of Transportation for Policy | Supply Chain Advisor | DT220079 | 09/09/2023
|  | Special Advisor for Bipartisan Infrastructure Law Implementation Operations | DT220101 | 09/23/2023
DEPARTMENT OF VETERANS AFFAIRS | Veterans Health Administration | Health Advisor to the Under Secretary for Health | DV220039 | 09/22/2023
ENVIRONMENTAL PROTECTION AGENCY | Office of the Assistant Administrator for Water | Senior Advisor for Technical Assistance and Community Outreach | EP220021 | 09/29/2023
GENERAL SERVICES ADMINISTRATION | Federal Acquisition Service | Program Director, Presidential Innovation Fellows | GS220011 | 09/08/2023
| Office of Congressional and Intergovernmental Affairs | Policy Advisor | GS220025 | 09/02/2023
NATIONAL TRANSPORTATION SAFETY BOARD | Office of Board Members | Confidential Assistant | TB220004 | 09/23/2023
OFFICE OF PERSONNEL MANAGEMENT | Office of the Director | Senior Advisor for Operations | PM230010 | 09/23/2023
|  | Executive Assistant to the Chief of Staff | PM220048 | 09/23/2023
|  | Senior Advisor for Special Projects | PM230037 | 09/23/2023
SECURITIES AND EXCHANGE COMMISSION | Office of Public Affairs | Supervisory Public Affairs Specialist | SE210019 | 09/29/2023

Authority: 5 U.S.C. 3301 and 3302; E.O. 10577, 3 CFR, 1954-1958 Comp., p. 218.

Office of Personnel Management.
Kayyonne Marston,
Federal Register Liaison.

[FR Doc. 2024-11357 Filed 5-22-24; 8:45 am]

BILLING CODE 6325-39-P